SURFACE TRANSPORTATION BOARD

[Docket No. FD 36244]

KET, LLC—Operation Exemption—Lines of Railroad in Benton County, Wash.

KET, LLC (KET), a noncarrier, has filed a verified notice of exemption under 49 CFR 1150.31 to operate two industrial spurs¹ totaling approximately 1.28 miles of track in Kennewick and Hedges, Benton County, Wash.:

¹ KET states that it acquired the industrial spurs from the Port of Kennewick, Washington on July 23, 2013. According to KET, the industrial spurs will have no mileposts.

(1) The Kennewick track includes the following: A main industrial spur in the City of Kennewick originating at the connection with the Union Pacific Railroad Company (UP) “City Lead” (connecting at its west end to UP's Kalan Industrial Lead) from the east edge of Washington St., running along the line of Bruneau Ave. extending in an easterly direction and terminating east of the intersection of Bruneau Ave. and Kingwood St. This main industrial rail spur also connects with BNSF Railway Company (BNSF) along Bruneau Ave. west of the intersection with N Elm St. The main industrial rail spur is 3,694 feet (approximately 0.7 miles) in length. A branch spur (Ash Grove Spur) diverges from the main industrial rail spur along the line extending east on Bruneau Ave., east of its intersection with N. Gum St. and proceeding in a northeasterly direction, terminating on the property of the Ash Grove Cement Co. at 633 N Ivy Street in Kennewick. The branch spur is 1,476 feet (approximately 0.28 miles) in length. The total length of the Kennewick track is 5,170 feet (0.98 miles).

(2) The Hedges track originates at the connection with UP and runs southeast to the property line of Nutrien Chemical Company, a distance of approximately 1,600 feet (0.30 miles).

This transaction is related to a concurrently filed verified notice of exemption in Paul Didelius—Continuance in Control Exemption—KET, LLC, Docket No. FD 36245, in which Paul Didelius seeks Board approval to continue in control of KET under 49 CFR 1180.2(d)(2) upon KET's becoming a Class III rail carrier.

KET certifies that the projected annual revenues as a result of this transaction will remain less than $5 million dollars annually. KET states that no interchange commitments are contemplated for this transaction.

The transaction may be consummated on or after December 5, 2018, the effective date of the exemption (30 days after the verified notice of exemption was filed). If the verified notice contains false or misleading information, the exemption is void ab initio. Petitions to revoke the exemption under 49 CFR 10502(d) may be filed at any time. The filing of a petition to revoke will not automatically stay the effectiveness of the exemption. Petitions to stay must be filed by November 28, 2018 (at least seven days before the exemption becomes effective).

An original and 10 copies of all pleadings referring to Docket No. FD 36244 must be filed with the Surface Transportation Board, 395 E Street SW, Washington, DC 20423-0001. In addition, a copy of each pleading must be served on applicant's representative, James H.M. Savage, 22 Rockingham Court, Germantown, MD 20874.

According to KET, this action is categorically excluded from environmental review under 49 CFR 1105.6(c).

Board decisions and notices are available on our website at www.stb.gov.

Decided: November 16, 2018.
By the Board, Scott M. Zimmerman, Acting Director, Office of Proceedings.
Jeffrey Herzig,
Clearance Clerk.

[FR Doc. 2018-25418 Filed 11-20-18; 8:45 am]

BILLING CODE 4915-01-P